DEPARTMENT OF ENERGY

Proposed Agency Information Collection Extension With Changes

AGENCY: U.S. Energy Information Administration (EIA), U.S. Department of Energy.

ACTION: Notice and Request for OMB Review and Comment.

SUMMARY: EIA has submitted an information collection request to the OMB for extension with changes, under the provisions of the Paperwork Reduction Act of 1995, for the Electricity and Renewable Power Surveys (OMB Control Number 1905-0129) information collection. EIA requests a three-year clearance with changes for the following existing forms:

Form EIA-411, “Coordinated Bulk Power Supply Program Report”

Form EIA-826, “Monthly Electric Utility Sales and Revenue Report with State Distributions”

Form EIA-860, “Annual Electric Generator Report”

Form EIA-860M, “Monthly Update to the Annual Electric Generator Report”

Form EIA-861, “Annual Electric Power Industry Report”

Form EIA-861S, “Annual Electric Power Industry Report (Short Form)”

Form EIA-923, “Power Plant Operations Report” and

the addition of a new survey, Form EIA-930, “Balancing Authority Operations Report” under OMB Control Number 1905-0129.

EIA also proposes to discontinue OMB Control Number 1905-0196 for the Solar Information Collection. This collection includes the Form EIA-63A (Annual Solar Thermal Collector/Reflector Shipments Report), Form EIA-63B (Annual Photovoltaic Module/Cell Shipments Report), and Form EIA-902 (Annual Geothermal Heat Pump Shipments Report). The current approval will expire on December 31, 2013. EIA does not plan to collect data on the Forms EIA-63A and EIA-902 and proposes to transfer the Form EIA-63B to the Electric Power Information Collection (OMB Control Number 1905-0129).

DATES: Comments regarding this collection must be received on or before January 23, 2014. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the

DOE Desk Officer, Office of Information and Regulatory Affairs, Office of Management and Budget, New Executive Office Building, Room 10102, 735 17th Street NW., Washington, DC 20503, Chad_S_Whiteman@omb.eop.gov.

And to Rebecca Peterson, U.S. Energy Information Administration, Mail Stop EI-23, Forrestal Building, 1000 Independence Avenue SW., Washington, DC 20585, erus2014@eia.gov.

FOR FURTHER INFORMATION CONTACT: Direct any requests for additional information or copies of the information collection instrument and instructions to Rebecca Peterson at erus2014@eia.gov, or at 202-586-4509. The collection instrument and instructions are also available on the Internet at: http://www.eia.gov/survey/changes/electricity/.

SUPPLEMENTARY INFORMATION: This information collection request contains:

(1) OMB No.: 1905-0129;

(2) Information Collection Request Title: Electricity and Renewables Power Surveys;

(3) Type of Request: Extension, with changes of a currently approved collection;

(4) Purpose: The electricity and renewables surveys collect data from entities involved in the production, transmission, delivery, and sale of electricity, and in maintaining the reliable operation of the power system. The data collected are the primary source of information on the nation's electric power industry. EIA uses the data collected on the electric power surveys to answer queries from the U.S. Congress, other federal and state agencies, the electric power industry, and the public; and as input to the National Energy Modeling System (NEMS) and to EIA's other forecasting and analytical activities. Other users of the data include policy makers, regulators, energy market analysts, and the energy industries.

EIA proposes that the existing Form EIA-63B, “Annual Photovoltaic Cell/Module Shipments Report,” move into this clearance package to permit EIA to better align its surveys and programs. In addition, EIA's proposed new Form EIA-930, “Balancing Authority Operations Report,”' will collect hourly information on the operation of the power system, a topic of growing interest due to the impact of renewable power plants and demand response programs on power system performance.

Changes to the currently approved forms in this package include collecting enhanced data on power system reliability, operations, environmental performance, and energy efficiency and demand response programs, and eliminating questions where the data either are no longer needed or cannot be accurately or cost-effectively collected. In addition, EIA proposes changes to the data protection terms for the electric power survey forms to uniformly apply the same policy regarding electric power data. There are two changes in the provisions for protecting the survey data. The first change is that EIA will protect and not publicly disclose the information on the individuals who complete the survey forms. The second change is that, with the exceptions of blackstart data and power plant construction costs reported on Form EIA-860, and all data reported on Form EIA-63B, EIA will no longer apply disclosure limitation procedures to the published aggregate electric power statistical data.

(5) Annual Estimated Number of Respondents: 14,328;

(6) Annual Estimated Number of Total Responses: 74,934;

(7) Annual Estimated Number of Burden Hours: 141,145;

(8) Annual Estimated Reporting and Recordkeeping Cost Burden: $76,000.

Authority: Section 13(b) of the Federal Energy Administration Act of 1974, Public Law 93-275, codified at 15 U.S.C. 772(b).

Issued in Washington, DC, December 18, 2013.
Stephanie Brown,
Director, Office of Survey Development and Statistical Integration, U.S. Energy Information Administration.

[FR Doc. 2013-30727 Filed 12-23-13; 8:45 am]

BILLING CODE 6450-01-P